DEPARTMENT OF COMMERCE

International Trade Administration

[A-423-007, A-427-078, A-428-082, C-408-046]

Revocation of Antidumping Duty Findings and Countervailing Duty Order: Sugar from Belgium, France, Germany and the European Community

AGENCY: Import Administration, International Trade Administration, Department of Commerce.

SUMMARY: On September 1, 2004, the Department of Commerce (“the Department”) initiated its second sunset review of the antidumping (“AD”) findings on sugar from Belgium, France, Germany and the countervailing duty (“CVD”) order on sugar from the European Community. See Notice of Initiation of Five-year (“Sunset”) Reviews, 69 FR 53408 (September 1, 2004). Pursuant to section 751(c) of the Tariff Act of 1930, as amended (“the Act”), the International Trade Commission (“the ITC”), in its sunset review, determined that revocation of the AD findings on sugar from Belgium, France, Germany and the CVD order on sugar from the European Community (“EC”) would not be likely to lead to continuation or recurrence of material injury to an industry in the United States within a reasonably foreseeable time. See Sugar From the European Union; Sugar from Belgium, France, and Germany, 70 FR 52446 (September 2, 2005). Therefore, pursuant to section 751(d)(2) of the Act and 19 CFR 351.222(i)(1)(iii), the Department is revoking the AD findings on sugar from Belgium, France, Germany, and the CVD order on sugar from the EC.

EFFECTIVE DATE: October 28, 2004.

FOR FURTHER INFORMATION CONTACT: David Goldberger, AD/CVD Operations, Office 3, Import Administration, International Trade Administration, U.S. Department of Commerce, 14th Street and Constitution Avenue, NW., Washington, DC 20230; telephone: (202) 482-4136.

SUPPLEMENTARY INFORMATION:

Scope of the Findings and Order

Imports covered by these AD findings are shipments of sugar, both raw and refined, with the exception of specialty sugars, from Belgium, France, and Germany. The finding on sugar from France excludes homeopathic sugar pellets meeting the following criteria: (1) composed of 85 percent sucrose and 15 percent lactose; (2) have a polished, matte appearance, and more uniformly porous than domestic sugar cubes; (3) produced in two sizes of 2 mm and 3.8 mm in diameter. See Sugar from France; Final Results of Changed Circumstances Antidumping Duty Administrative Review, and Revocation in Part of Antidumping Finding, 61 FR 40609 (August 5, 1996). The merchandise subject to these AD findings is currently classifiable in the Harmonized Tariff Schedule of the United States (“HTSUS”) at subheadings: 1701.11.05, 1701.11.10, 1701.11.20, 1701.11.50, 1701.12.05, 1701.12.10, 1701.12.50, 1701.91.05, 1701.91.10, 1701.91.30, 1701.99.05, 1701.99.1000, 1701.99.1090, 1701.99.5000, 1701.99.5090, 1702.90.05, 1702.90.10, 1702.90.20, 2106.90.42, 2106.90.44, and 2106.90.46. Although the HTSUS subheadings are provided for convenience and customs purposes, the written description of the scope of the findings is dispositive.

Imports covered by this CVD order are shipments of sugar from the EC. This merchandise is currently classifiable under item numbers 1701.11.05, 1701.11.10, 1701.11.20, 1701.11.50, 1701.12.05, 1701.12.10, 1701.12.50, 1701.91.05, 1701.91.10, 1701.91.30, 1701.99.05, 1701.99.1090, 1701.99.5090, 1702.90.05, 1702.90.10, 1702.90.20, 2106.90.42, 2106.90.44, 2106.90.46 of the HTSUS. Specialty sugars are exempt from the scope of this order. On December 7, 1987, two interested parties, the United States Beet Sugar Association and the United States Cane Sugar Refiners' Association, requested a scope review of blends of sugar and dextrose, a corn-derived sweetner, containing at least 65 percent sugar. The merchandise is currently imported under HTSUS item number 1701.99.00. On June 21, 1990, the Department issued a final scope clarification memorandum, which determined that such blends are within the scope of the order, and that imports of such blends from the EC are subject to the corresponding CVD.

Background

On June 13, 1979, following affirmative injury determinations by the ITC, the Department of the Treasury (“Treasury”) issued antidumping duty findings on imports of sugar from Belgium, France, and Germany with country-wide rates of 103 percent for Belgian sugar, 102 percent for French sugar, and 121 percent for German sugar. See Sugar from Belgium, France, and the Republic of Germany, Treasury Decision 79-167, 44 FR 33878 (June 13, 1979). On July 31, 1978, Treasury issued its final determination finding that exports from the EC of sugar benefitted from bounties or grants within the meaning of section 303 of the Tariff Act of 1930. See Final Countervailing Duty Determination, T.D. 78-253, 43 FR 33237 (July 31, 1978). On September 1, 2004, the Department initiated, and the ITC instituted, sunset reviews of the AD and CVD orders on sugar from Belgium, France, Germany, and the European Community. See Notice of Initiation of Five-year (“Sunset”) Reviews, 69 FR 53408 (September 1, 2004). As a result of its review, the Department found that revocation of the AD orders would likely lead to continuation or recurrence of dumping, and notified the ITC of the magnitude of the margin likely to prevail were the orders to be revoked. See Final Results of Expedited Sunset Reviews of Antidumping Duty Findings, 70 FR 17231 (April 5, 2005). On September 2, 2005, the ITC determined, pursuant to section 751(c) of the Act, that revocation of the AD findings on sugar from Belgium, France, Germany, and the CVD order on sugar from the EC would not be likely to lead to continuation or recurrence of material injury to an industry in the United States within a reasonably foreseeable time. See Sugar From the European Union; Sugar from Belgium, France, and Germany, 70 FR 52446 (September 2, 2005) and USITC Publication 3793 (August 2005), entitled Sugar from the European Union, and Sugar from Belgium, France, and Germany: Investigation Nos. 104-TAA-7 (Second Review) and AA1921-198-200 (Second Review).

Determination

As a result of the determination by the ITC that revocation of these AD findings and CVD order is not likely to lead to continuation or recurrence of material injury to an industry in the United States, the Department, pursuant to section 751(d) of the Act, is revoking the AD findings on sugar from Belgium, France and Germany and the CVD order on sugar from the EC. Pursuant to section 751(d)(2) of the Act and 19 CFR 351.222(i)(2)(i), the effective date of revocation is October 28, 2004 (i.e., the fifth anniversary of the date of publication in the Federal Register of the notice of continuation of the AD findings and the CVD order). The Department will notify U.S. Customs and Border Protection to discontinue suspension of liquidation and collection of cash deposits on entries of the subject merchandise entered or withdrawn from warehouse on or after October 28, 2004, the effective date of revocation of the AD findings and the CVD order. The Department will complete any pending administrative reviews of these findings or order and will conduct administrative reviews of subject merchandise entered prior to the effective date of revocation in response to appropriately filed requests for review.

These five-year sunset reviews and notice are in accordance with section 751(d)(2) and published pursuant to section 777(i)(1) of the Act.

Dated: September 9, 2005.
Joseph A. Spetrini,
Acting Assistant Secretary for Import Administration.

[FR Doc. E5-5029 Filed 9-14-05; 8:45 am]

BILLING CODE 3510-DS-S